DEPARTMENT OF LABOR

Employment and Training Administration

Agency Information Collection Activities; Comment Request; Reintegration of Ex-Offenders Adult Reporting System

ACTION: Notice.

SUMMARY: The Department of Labor (DOL), Employment and Training Administration (ETA) is soliciting comments concerning a proposed extension for the authority to conduct the information collection request (ICR) titled, “Reintegration of Ex-Offenders Adult Reporting System.” This comment request is part of continuing Departmental efforts to reduce paperwork and respondent burden in accordance with the Paperwork Reduction Act of 1995 (PRA).

DATES: Consideration will be given to all written comments received by July 24, 2018.

ADDRESSES: A copy of this ICR with applicable supporting documentation, including a description of the likely respondents, proposed frequency of response, and estimated total burden, may be obtained free by contacting Derrick Williams by telephone at 202-693-3931 (this is not a toll-free number), TTY/TDD by calling the toll-free Federal Information Relay Service at 1-877-889-5627, or by email at Williams.Derrick.D@dol.gov.

Submit written comments about, or requests for a copy of, this ICR by mail or courier to the U.S. Department of Labor, Division of Youth Services, Room N-4508, 200 Constitution Avenue NW, Washington, DC 20210; by email: Williams.Derrick.D@dol.gov; or by Fax: 202-693-3113.

FOR FURTHER INFORMATION CONTACT: Contact Derrick Williams by telephone at 202-693-3931 (this is not a toll-free number) or by email at Williams.Derrick.D@dol.gov.

Authority: 44 U.S.C. 3506(c)(2)(A).

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

In applying for the Reentry Employment Opportunities (REO) Ex-Offender-Adult grants, applicants agree to submit participant data and quarterly aggregate reports for individuals who receive services through REO-Adult programs. The reports include aggregate data on demographic characteristics, types of services received, placements, outcomes, and follow-up status. Specifically, they summarize data on participants who received employment and placement services, mentoring, and other services essential to reintegrating ex-offenders through REO-Adult programs. The Department requests a revision of the currently approved information collection to meet the reporting and record-keeping requirements of the REO Ex-Offenders-Adult grants through an ETA-provided, Web-based Management Information System (MIS). The Department also requests an increase in the burden hours and additional data items because DOL is now awarding a larger number of adult versus juvenile offender grants. This information collection is conducted under the authority of Section 185(a)(2) of the Workforce Innovation and Opportunity Act which requires recipients of funds under Title I to maintain such records and submit such reports as the Secretary requires regarding the performance of programs and activities carried out under this title. This information collection maintains a reporting and record-keeping system for a minimum level of information collection that is necessary to: comply with Equal Opportunity requirements; hold REO-Adult grantees appropriately accountable for the Federal funds they receive, including common performance measures; and allow the Department to fulfill its oversight and management responsibilities.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0455.

Submitted comments will also be a matter of public record for this ICR and posted on the internet, without redaction. The DOL encourages commenters not to include personally identifiable information, confidential business data, or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: Revision.

Title of Collection: Reintegration of Ex-Offenders Adult Reporting System.

Form: Quarterly Performance Report (ETA 9140).

OMB Control Number: 1205-0455.

Affected Public: Faith-Based and Community Organizations, State and Local Criminal Justice and Workforce Development Agencies, and Program Participants.

Estimated Number of Respondents: 20,472.

Frequency: Varies.

Total Estimated Annual Responses: 20,850.

Estimated Average Time per Response: Varies.

Estimated Total Annual Burden Hours: 34,514.

Total Estimated Annual Other Cost Burden: $0.

Rosemary Lahasky,
Deputy Assistant Secretary for Employment and Training Administration.

[FR Doc. 2018-11246 Filed 5-24-18; 8:45 am]

BILLING CODE 4510-FT-P